DEPARTMENT OF ENERGY

Federal Energy Regulatory Commission

Combined Notice of Filings #1

Take notice that the Commission received the following exempt wholesale generator filings:

Docket Numbers: EG23-119-000.

Applicants: Hecate Energy Desert Storage 1 LLC.

Description: Hecate Energy Desert Storage 1 LLC submits Notice of Self-Certification of Exempt Wholesale Generator Status.

Filed Date: 4/7/23.

Accession Number: 20230407-5156.

Comment Date: 5 p.m. ET 4/28/23.

Take notice that the Commission received the following electric rate filings:

Docket Numbers: ER17-1394-007; ER19-2429-007; ER19-2728-004; ER19-2729-004.

Applicants: Lily Solar Lessee, LLC, Lily Solar LLC, Brookfield Smoky Mountain Hydropower LP, 83WI 8me, LLC.

Description: Notice of Non-Material Change in Status of 83WI 8me, LLC, et al.

Filed Date: 4/5/23.

Accession Number: 20230405-5189.

Comment Date: 5 p.m. ET 4/26/23.

Docket Numbers: ER23-1275-000; ER23-1276-000.

Applicants: Aron Energy Prepay 22 LLC, Aron Energy Prepay 21 LLC.

Description: Supplemental of Refund Report of Aron Energy Prepay 21 LLC et al.

Filed Date: 3/28/23.

Accession Number: 20230328-5294.

Comment Date: 5 p.m. ET 4/20/23.

Docket Numbers: ER23-1596-000.

Applicants: Tri-State Generation and Transmission Association, Inc.

Description: § 205(d) Rate Filing: Certificate of Concurrence—Amendment to Rate Schedule FERC No. 328 to be effective 5/1/2023.

Filed Date: 4/7/23.

Accession Number: 20230407-5139.

Comment Date: 5 p.m. ET 4/28/23.

Docket Numbers: ER23-1597-000.

Applicants: Idaho Power Company.

Description: § 205(d) Rate Filing: IPC/PAC JOOA Agreement—Changes to Rate Schedule 158 to be effective 6/9/2023.

Filed Date: 4/10/23.

Accession Number: 20230410-5000.

Comment Date: 5 p.m. ET 5/1/23.

Docket Numbers: ER23-1598-000.

Applicants: Versant Power.

Description: Application for the Establishment and Recovery of Regulatory Assets of Versant Power.

Filed Date: 4/7/23.

Accession Number: 20230407-5157.

Comment Date: 5 p.m. ET 4/28/23.

Docket Numbers: ER23-1599-000.

Applicants: PJM Interconnection, L.L.C.

Description: § 205(d) Rate Filing: Amendment to ISA, SA No. 5757; Queue No. AC1-161 to be effective 6/9/2023.

Filed Date: 4/10/23.

Accession Number: 20230410-5035.

Comment Date: 5 p.m. ET 5/1/23.

Docket Numbers: ER23-1600-000.

Applicants: AEP Texas Inc.

Description: § 205(d) Rate Filing: AEPTX-Coleman County Electric Cooperative Amended TSA to be effective 3/10/2023.

Filed Date: 4/10/23.

Accession Number: 20230410-5036.

Comment Date: 5 p.m. ET 5/1/23.

Docket Numbers: ER23-1601-000.

Applicants: Alabama Power Company, Georgia Power Company, Mississippi Power Company.

Description: Tariff Amendment: Alabama Power Company submits tariff filing per 35.15: Madden Solar Center LGIA Termination Filing to be effective 4/10/2023.

Filed Date: 4/10/23.

Accession Number: 20230410-5060.

Comment Date: 5 p.m. ET 5/1/23.

Docket Numbers: ER23-1602-000.

Applicants: H.Q. Energy Services (U.S.) Inc.

Description: § 205(d) Rate Filing: Update to MBR Tariff to be effective 4/11/2023.

Filed Date: 4/10/23.

Accession Number: 20230410-5073.

Comment Date: 5 p.m. ET 5/1/23.

Docket Numbers: ER23-1603-000.

Applicants: ITC Midwest LLC.

Description: § 205(d) Rate Filing: Joint Use Pole Agreement with City of Ames (Rate Schedule No. 224) to be effective 6/10/2023.

Filed Date: 4/10/23.

Accession Number: 20230410-5093.

Comment Date: 5 p.m. ET 5/1/23.

Docket Numbers: ER23-1604-000.

Applicants: Pacific Gas & Electric Company.

Description: Notice of Termination of Service Agreement No. 11 under Pacific Gas and Electric Company's FERC Electric Tariff Volume No. 4.

Filed Date: 3/28/23.

Accession Number: 20230328-5306.

Comment Date: 5 p.m. ET 4/18/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 10, 2023.
Kimberly D. Bose,
Secretary.

[FR Doc. 2023-07933 Filed 4-13-23; 8:45 am]

BILLING CODE 6717-01-P